DEPARTMENT OF HOMELAND SECURITY

Coast Guard

[Docket No. USCG-2012-0908]

Facility Security Officer Training Requirements; Correction

AGENCY: Coast Guard, DHS.

ACTION: Notice of public meeting; request for comments; correction.

SUMMARY: The Coast Guard published a notice of public meeting; request for comments in the Federal Register on October 11, 2012 (77 FR 61771), announcing a public meeting to receive comments on the development of a Facility Security Officer training program. The notice contains an inaccurate Internet link to RSVP for the public meeting.

DATES: The notice of public meeting; request for comments published in the Federal Register on October 11, 2012 (77 FR 61771) is corrected as of October 17, 2012.

FOR FURTHER INFORMATION CONTACT: If you have questions concerning the meeting or this notice, please call or email LTJG Lindsey Musselwhite, Commandant (CG-FAC-2), Coast Guard; telephone 202-372-1136, email Lindsey.A.Musselwhite@uscg.mil or LCDR José Ramírez, Commandant (CG-FAC-2), Coast Guard; telephone 202-372-1150, email Jose.L.Ramirez@uscg.mil. If you have questions on viewing or submitting material to the docket, call Ms. Renee V. Wright, Program Manager, Docket Operations, telephone 202-366-9826.

SUPPLEMENTARY INFORMATION: The notice of public meeting; request for comments published in the Federal Register on October 11, 2012 (77 FR 61771) contains an inaccurate Internet link on page 61771. This correction provides the accurate Internet link to RSVP for the public meeting.

Correction

In the notice of public meeting; request for public comments FR Doc. 2012-0908, beginning on page 61771, make the following correction. On page 61771, revise the last paragraph in the ADDRESSES section to read as follows:

To RSVP for the meeting, fill out the RSVP form using the following link https://einvitations.afit.edu/inv/anim.cfm?i=123867&k=036341017D50.

Dated: October 11, 2012.
Kathryn Sinniger,
Chief, Office of Regulations and Administrative Law, U.S. Coast Guard.

[FR Doc. 2012-25571 Filed 10-16-12; 8:45 am]

BILLING CODE 9110-04-P